DEPARTMENT OF THE INTERIOR

Bureau of Land Management

[WO-300-9131-PP]

Notice of Intent To Prepare a Programmatic Environmental Impact Statement for Leasing of Geothermal Resources

AGENCIES: Bureau of Land Management, Interior; and U.S. Forest Service, Agriculture.

ACTION: Notice of Intent to Prepare a Programmatic Environmental Impact Statement for Leasing of Geothermal Resources.

SUMMARY: In accordance with the National Environmental Policy Act of 1969 (NEPA) (42 U.S.C. 4321), the Bureau of Land Management (BLM) and the United States Forest Service (USFS) will prepare a joint Programmatic Environmental Impact Statement (PEIS) to analyze the leasing of BLM- and USFS-administered lands with moderate to high potential for geothermal resources in eleven western states and Alaska.

DATES: This notice initiates the public scoping process for the PEIS. The BLM and the USFS will accept written comments on the scope of the PEIS postmarked by August 13, 2007, and electronic or faxed comments received by August 13, 2007. Public scoping meetings to obtain comments for the PEIS will be held in Anchorage, Alaska; Boise, Idaho; Denver, Colorado; Missoula, Montana; Phoenix, Arizona; Portland, Oregon; Reno, Nevada; Sacramento, California; Salt Lake City, Utah; and Santa Fe, New Mexico. Times and locations of the scoping meetings will be announced at least 15 days prior to the meetings in the local news media and on the project Web site: http://www.blm.gov/Geothermal_EIS. Public scoping will be open until August 13, 2007.

ADDRESSES: You may submit comments by any of the following methods:

• E-mail: geothermal_EIS@blm.gov.

• Fax: 1-866-625-0707.

• U.S. Mail: Geothermal Programmatic EIS, c/o EMPS Inc., 182 Howard Street, Suite 110, San Francisco, CA 94105.

FOR FURTHER INFORMATION CONTACT: For further information, including information on how to comment, you may contact Jack G. Peterson, Bureau of Land Management at 208-373-4048, Jack_G_Peterson@blm.gov, or Tracy Parker, Forest Service at 703-605-4796, tparker03@fs.fed.us or visit the Programmatic EIS Web site at http://www.blm.gov/Geothermal_EIS.

SUPPLEMENTARY INFORMATION: The BLM and the USFS will prepare a joint PEIS for geothermal leasing on BLM- and USFS-administered lands in the western United States (including Alaska) with moderate to high potential for geothermal resources. The U.S. Department of Energy plans to participate as a cooperating agency in view of its special expertise, and may adopt the PEIS to help it more efficiently meet its NEPA review obligations. The analysis area includes BLM- and USFS-administered lands in Alaska, Arizona, California, Colorado, Idaho, Nevada, New Mexico, Montana, Oregon, Utah, Washington, and Wyoming. This PEIS will not include congressionally withdrawn lands, Wilderness Areas, Wild and Scenic Rivers, or lands not administered by the BLM or the USFS. For more information related to areas in these states with potential for geothermal resources see the public Web site: http://www.blm.gov/Geothermal_EIS. This Web site will include links to many source documents including United States Geological Survey Circular 790 and the Western Governor's Association Geothermal Task Force Report. Source information will continue to be updated and expanded as a result of this scoping process. The PEIS will be prepared in accordance with applicable Council on Environmental Quality regulations at 40 CFR 1500-1508, and applicable BLM and USFS regulations.

Geothermal resources are indirectly used to generate electric power and directly used for many things such as heating buildings and aquaculture. Energy markets are driving increased demand for renewable geothermal energy. Advances in the engineering, technology and economics of geothermal exploration and improvements in the design and development of energy generation facilities have resulted in increased interest in areas with geothermal potential. Several recent Federal and state actions also are driving the increase in renewable energy activity, including geothermal energy leasing, exploration and development activity. These actions include the President's National Energy Policy; the Western Governors' Association Geothermal Task Force Report; and the Energy Policy Act of 2005.

The goal of the PEIS is to examine the potential impacts of geothermal leasing on certain lands administered by the BLM and the USFS. Completion of the PEIS will improve the efficiency and effectiveness of the geothermal leasing and application process on Federal lands. The analysis in the PEIS will serve the following two purposes.

(1) Analyze the impacts of leasing in areas that are determined through scoping to have reasonable near-term exploration/development potential for geothermal resources, including areas for which leasing applications have not yet been filed. The PEIS will thereby assist the BLM in determining how best to amend, as appropriate, its land use plans for these areas, by identifying the potential for geothermal development in the areas and determining the areas where geothermal development will be considered as an allowable use. The PEIS will similarly address USFS-managed lands that have potential for geothermal resources and provide the basis for future geothermal leasing availability analysis and decisions.

(2) Enable the BLM to reduce the backlog of lease applications that were pending on BLM- and USFS-administered lands as of January 1, 2005 by at least 90 percent as required by section 225(b)(3) of the Energy Policy Act of 2005. This Act gives the BLM until August 8, 2010, to achieve this goal. As of January 1, 2005, there were nearly 100 applications for geothermal leases pending on BLM and USFS lands. The PEIS will include the necessary site specific analysis to facilitate processing of these pending lease applications by deciding whether geothermal leasing is appropriate and under what stipulations they may be leased.

Comments are being solicited so as to determine: (1) The scope of this analysis, (2) significant issues or concerns related to the proposed actions, and (3) alternatives to the proposed actions.

The BLM will provide further information at the scoping meetings regarding the locations of, and the planning areas and forests that may be affected by, the actively pending applications. The purpose of the public scoping process is to identify issues that should be addressed in the environmental analysis and the scope of the alternatives. You may submit comments in writing at any public scoping meeting, or you may submit them using one of the methods listed in the ADDRESSES section above. Before including your address, phone number, e-mail address, or other personal identifying information in your comment, you should be aware that your entire comment—including your personal identifying information—may be made publicly available at any time. While you can ask us in your comment to withhold your personal identifying information from public review, we cannot guarantee that we will be able to do so.

Douglas Burger,
Acting Assistant Director, Minerals, Realty and Resource Protection, Bureau of Land Management.
Frederick Norbury,
Associate Deputy Chief for National Forest System, U.S. Forest Service.

[FR Doc. 07-2921 Filed 6-12-07; 8:45 am]

BILLING CODE 4310-84-P